DEPARTMENT OF AGRICULTURE

Forest Service

Fremont and Winema Resource Advisory Committee

AGENCY: Forest Service, USDA.

ACTION: Notice of meeting.

SUMMARY: The Fremont and Winema Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on the Fremont—Winema National Forest within Klamath and Lake counties, consistent with the Federal Lands Recreation Enhancement Act.

RAC information and virtual meeting information can be found at the following website: https://www.fs.usda.gov/main/fremont-winema/workingtogether/advisorycommittees.

DATES: The meeting will be held on August 19, 2021, 9:00 a.m.-4:00 p.m., Pacific Daylight Time.

All RAC meetings are subject to cancellation. For status of meetings prior to attendance, please contact the person listed under For Further Information Contact.

ADDRESSES: The meeting will be held virtually via telephone and/or video. Written comments may be submitted as described under Supplementary Information. All comments, including names and addresses when provided, are placed in the record and are available for public inspection and copying. The public may inspect comments received upon request.

FOR FURTHER INFORMATION CONTACT: RAC Coordinator Avery Kool by phone at 541-219-0372 or via email at avery.kool@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Elect a Chair and Vice Chair;

2. Hear from Title II project proponents and discuss project proposals;

3. Make funding reccomendations on Tittle II projects; and

4. Schedule the next meeting.

This meeting is open to the public. The agenda will include time for individuals to make oral statements of three minutes or less. Individuals wishing to make an oral statement at any of the meetings should request in writing by August 18, 2021, to be scheduled on the agenda for that particular meeting. Anyone who would like to bring related matters to the attention of the committee may file written statements with the committee staff before or after the meeting. Written comments and requests for time for oral comments must be sent to RAC Coordinator Avery Kool, 303 OR-31, Paisley, Oregon, 97636; or by email to avery.kool@usda.gov.

Meeting Accommodations: If you are a person requiring reasonable accommodation, please make requests in advance for sign language interpreting, assistive listening devices, or other reasonable accommodation. For access to the facility or proceedings, please contact the person listed in the section titled For Further Information Contact. All reasonable accommodation requests are managed on a case-by-case basis.

Dated: July 26, 2021.
Cikena Reid,
USDA Committee Management Officer.

[FR Doc. 2021-16334 Filed 7-29-21; 8:45 am]

BILLING CODE 3411-15-P